DEPARTMENT OF THE INTERIOR

Bureau of Land Management

[17X.LLAK910000.L13100000.DB0000.LXSINSSI0000]

Call for Nominations and Applications, North Slope Science Initiative, Science Technical Advisory Panel, Alaska

AGENCY: Interior, North Slope Science Initiative.

ACTION: Notice.

SUMMARY: The purpose of this notice is to request public nominations on the North Slope Science Initiative (NSSI) 15-member Science Technical Advisory Panel (Panel). The Panel advises the NSSI Oversight Group on technical issues such as identifying and prioritizing inventory, monitoring, and research needs across the North Slope of Alaska and the adjacent marine environment.

DATES: The deadline for the NSSI to receive all public nominations/applications for membership on the panel is November 24, 2017.

FOR FURTHER INFORMATION CONTACT: Dr. Mark Miller, Deputy Director, North Slope Science Initiative, Bureau of Land Management, 222 West Seventh Avenue, #13, Anchorage, Alaska 99513, 907-271-3212, email memiller@blm.gov. Individuals who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: Section 348 of the Energy Policy Act of 2005, Public Law 109-58, created the NSSI, its Oversight Group, and 15-member Science Technical Advisory Panel to coordinate inventories, monitoring, and research for a better understanding of terrestrial, aquatic, and marine ecosystems of the North Slope of Alaska. The NSSI works to minimize duplication of monitoring and research efforts, shares financial resources and expertise, identifies and prioritizes information needs, and ensures that science conducted by participating agencies and organizations is of the highest technical quality.

As an advisory body, the Panel represents diverse professions and interests, including the Alaska North Slope community, oil and gas industry, subsistence users, Alaska Native entities, conservation organizations, and academia. Panel membership brings together diverse disciplines, such as North Slope traditional and local knowledge, landscape ecology, engineering, geology, sociology, anthropology, economics, ornithology, oceanography, fisheries, and marine biology.

Duties of the Panel are solely advisory to the Oversight Group. Panel members serve for 3-year terms, appointed by the Secretary of the Interior.

To Nominate or Apply

Nominees must have a minimum of five (5) years of experience in the Arctic in their field of expertise. Nomination forms and instructions are available from the BLM Web site (http://www.blm.gov/alaska) and from the Deputy Director, North Slope Science Initiative (see FOR FURTHER INFORMATION CONTACT, above). Completed nomination forms and a minimum of one letter of reference should describe the nominee's experience and qualifications to serve on the Panel. Panel members receive no monetary compensation, but will be reimbursed for necessary travel, lodging, and per diem expenses for participating in announced meetings under Federal Travel Regulations and Federal Advisory Committee Act guidelines.

The Oversight Group includes the Alaska Regional or State Directors of the U.S. Fish and Wildlife Service, the National Park Service, the Bureau of Ocean Energy Management, the Bureau of Safety and Environmental Enforcement, the National Marine Fisheries Service, and the Bureau of Land Management, the Commissioners of the Alaska Departments of Natural Resources and Fish and Game, the Mayor of the North Slope Borough, and the President of the Arctic Slope Regional Corporation. Advisory members of the Oversight Group include the Regional Executive of the U.S. Geological Survey; the Deputy Director of the U.S. Arctic Research Commission; the Alaska Regional Director of the National Weather Service; and the Regional Coordinator of the National Oceanographic and Atmospheric Administration.

Public Disclosure of Comments

Before including your address, phone number, email address, or other personal identifying information in your application, you should be aware that your entire application—including your personal identifying information—may be made publicly available at any time. While you can ask us in your application to withhold your personal identifying information from public review, we cannot guarantee that we will be able to do so.

Authority: 42 U.S.C. 15906; Energy Policy Act of 2005, Sec. 348.

Karen E. Mouritsen,
Acting State Director, Alaska.

[FR Doc. 2017-23192 Filed 10-24-17; 8:45 am]

BILLING CODE 4310-JA-P